DEPARTMENT OF COMMERCE

International Trade Administration

[C-570-978]

High Pressure Steel Cylinders From the People's Republic of China: Rescission of Countervailing Duty Administrative Review; 2013

AGENCY: Enforcement and Compliance, International Trade Administration, Department of Commerce.

SUMMARY: The Department of Commerce (the Department) is rescinding the administrative review of the countervailing duty (CVD) order on high pressure steel cylinders (HPSC) from the People's Republic of China (PRC) for the period January 1, 2013, through December 31, 2013.

DATES: Effective Date: October 1, 2014.

FOR FURTHER INFORMATION CONTACT: Sergio Balbontin or Joshua Morris, AD/CVD Operations, Office I, Enforcement and Compliance, International Trade Administration, U.S. Department of Commerce, 14th Street and Constitution Avenue NW., Washington, DC 20230; telephone: (202) 482-6478 or (202) 482-1779, respectively.

Background

On July 31, 2014, the Department initiated an administrative review of the CVD order on HPSC from the PRC with respect to Beijing Tianhai Industry Co., Ltd. (BTIC) covering the period January 1, 2013, through December 31, 2013, based on requests by Norris Cylinder Company (hereinafter, Petitioner) and BTIC.¹ On September 9, 2014, both Petitioner and BTIC timely withdrew their respective requests for an administrative review of BTIC.² No other party requested a review.

¹ See Initiation of Antidumping and Countervailing Duty Administrative Reviews, 79 FR 44390, 44392 (July 31, 2014); see also Letter from Petitioner, “High Pressure Steel Cylinders from the People's Republic of China Revised Request for Administrative Review and Entry of Appearance” (June 30, 2014); Letter from BTIC, “Request for the Second Administrative Review of the Countervailing Duty Order on High Pressure Steel Cylinders from the People's Republic of China, C-570-978 (POR: 01/01/13-12/31/13)” (June 30, 2014).

² See Letter from Petitioner, “Withdrawal of Request for an Administrative Review of the Countervailing Duty Order on High Pressure Steel Cylinders from the People's Republic of China” (September 9, 2014); Letter from BTIC, “Withdrawal of Review Request in the Administrative Review of Countervailing Duty Order on High Pressure Steel Cylinders from the People's Republic of China” (September 9, 2014).

Rescission of Review

Pursuant to 19 CFR 351.213(d)(1), the Department will rescind an administrative review, in whole or in part, if the party that requested the review withdraws its request within 90 days of the publication of the notice of initiation of the requested review. In this case, both Petitioner and BTIC withdrew their respective requests within the 90-day deadline, and no other party requested an administrative review of the CVD order. Therefore, in accordance with 19 CFR 351.213(d)(1), we are rescinding the administrative review of HPSC from the PRC covering the period January 1, 2013, through December 31, 2013, in its entirety.

Assessment

The Department will instruct U.S. Customs and Border Protection (CBP) to assess CVDs on all entries of HPSC from the PRC made during the period of review at rates equal to the cash deposit of estimated CVDs required at the time of entry, or withdrawal from warehouse, for consumption, in accordance with 19 CFR 351.212(c)(1)(i). The Department intends to issue appropriate assessment instructions to CBP 15 days after the date of publication of this notice in the Federal Register, if appropriate.

Notifications

This notice serves as a final reminder to importers of their responsibility under 19 CFR 351.402(f)(2) to file a certificate regarding the reimbursement of CVDs prior to liquidation of the relevant entries during this review period. Failure to comply with this requirement could result in the Department's presumption that reimbursement of CVDs occurred and the subsequent assessment of doubled CVDs.

This notice also serves as a final reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a violation that is subject to sanction.

This notice is issued and published in accordance with sections 751(a)(1) and 777(i)(1) of the Tariff Act of 1930, as amended, and 19 CFR 351.213(d)(4).

Dated: September 24, 2014.
Christian Marsh,
Deputy Assistant Secretary for Antidumping and Countervailing Duty Operations.

[FR Doc. 2014-23403 Filed 9-30-14; 8:45 am]

BILLING CODE 3510-DS-P